DEPARTMENT OF THE INTERIOR

Bureau of Indian Affairs

Proclaiming Certain Lands Known as the Pecos Pueblo Grant as an Addition to the Reservation for the Pueblo of Jemez, New Mexico

AGENCY: Bureau of Indian Affairs, Interior.

ACTION: Notice of Reservation Proclamation.

SUMMARY: This notice informs the public that the Assistant Secretary-Indian Affairs proclaimed approximately 5.0 acres, more or less, to be added to the Reservation of the Pueblo of Jemez, New Mexico.

FOR FURTHER INFORMATION CONTACT: Ben Burshia, Bureau of Indian Affairs, Division of Real Estate Services, MS-4639-MIB, 1849 C Street, NW., Washington, DC 20240, telephone (202) 208-7737.

SUPPLEMENTARY INFORMATION: This notice is published in the exercise of authority delegated by the Secretary of the Interior to the Assistant Secretary-Indian Affairs by Part 209 of the Departmental Manual.

A proclamation was issued according to the Act of June 18, 1934 (48 Stat. 986; 25 U.S.C. 467), for the tract of land described below. The land was proclaimed to be an addition to and part of the Reservation of the Pueblo of Jemez for the exclusive use of Indians on that reservation who are entitled to reside at the reservation by enrollment or tribal membership.

New Mexico Principal Meridian

Santa Fe County, New Mexico

A Parcel of land, containing 5.0 acres, more or less, known as Tract Two (2) within Private Claim 340 in the Pecos Pueblo Grant, Santa Fe County, New Mexico, more particularly described as follows:

Beginning at the Southeast corner of the tract, from whence a U.S.G.L.O. Brass Cap set for the ¼ corner common to Section 36, T 16 N, R 11 E and Section 31, T 16 N, R 12 E, bears:

S 0° 15′ 55″ E 980.88 feet;

S 89° 45′ 24″ E 788.54 feet;

S 0° 02′ 41″ E 1373.22 feet, thence from said point and place of beginning along the following bearings and distances;

N 89° 56′ 10″ W 444.10 feet to the Southwest corner;

N 0° 15′ 55″ W 490.44 feet to the Northwest corner;

S 89° 56′ 10″ E 444.10 feet to the Northeast corner;

S 0° 15′ 55″ E 490.44 feet to the point of beginning.

Being and intended to be the Tract 2 as shown on survey by Robert L. Benavides, dated December, 1980, as Survey No. A-274.

The above-described lands contain a total of 5.0 acres, more or less, which are subject to all valid rights, reservations, rights-of-way, and easements of record.

This proclamation does not affect any of the following: (1) Title to the land described above; (2) valid existing easements for public roads, highways, or utilities; (3) valid existing easements for railroads or pipelines; or (4) other rights-of-way or reservations of record.

Dated: December 10, 2009.
George T. Skibine,
Acting Principal Deputy Assistant Secretary—Indian Affairs.

[FR Doc. E9-30320 Filed 12-18-09; 8:45 am]

BILLING CODE 4310-W7-P